ENVIRONMENTAL PROTECTION AGENCY

[EPA-HQ-OECA-2014-0094; FRL-9929-76-OEI]

Information Collection Request Submitted to OMB for Review and Approval; Comment Request; NSPS for Other Solid Waste Incineration Units (Renewal)

AGENCY: Environmental Protection Agency (EPA).

ACTION: Notice.

SUMMARY: The Environmental Protection Agency has submitted an information collection request (ICR), “NSPS for Other Solid Waste Incineration Units (40 CFR part 60, subpart EEEE) (Renewal)” (EPA ICR No. 2163.05, OMB Control No. 2060-0563) to the Office of Management and Budget (OMB) for review and approval in accordance with the Paperwork Reduction Act (44 U.S.C. 3501 et seq.). This is a proposed extension of the ICR, which is currently approved through June 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 30, 2015.

ADDRESSES: Submit your comments, referencing Docket ID Number EPA-HQ-OECA-2014-0094, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The NSPS applies to very small municipal waste combustion units and institutional waste incineration units that commenced construction after December 9, 2005 or commenced reconstruction or modification on or after June 16, 2006. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Owners and operators of other solid waste incinerator units.

Respondent's obligation to respond: Mandatory (40 CFR part 60, subpart EEEE)

Estimated number of respondents: Zero (total).

Frequency of response: Initially, semiannually and annually.

Total estimated burden: Zero hours (per year). Burden is defined at 5 CFR 1320.3(b).

Total estimated cost: $0 (per year), includes $0 annualized capital or operation & maintenance costs.

Changes in the Estimates: There is no change in the labor hours or cost in this ICR compared to the previous ICR. At present, there are no OSWI units subject to the regulations, and no new units are expected to be constructed or operated over the next three years. It is assumed that potential respondents would use alternative methods of waste disposal that are more economical, e.g. landfills, rather than replacing existing OSWI units. As a result, no respondent or agency burdens or costs have been estimated, and no annual burden is expected.

Courtney Kerwin,
Acting Director, Collection Strategies Division.

[FR Doc. 2015-16033 Filed 6-29-15; 8:45 am]

BILLING CODE 6560-50-P